Title 3—

The President

Proclamation 9674 of November 10, 2017

Commemoration of the 50th Anniversary of the Vietnam War

By the President of the United States of America

A Proclamation

Today, I lead our Nation in somber reflection as we continue the 13-year Commemoration of the 50th Anniversary of the Vietnam War that began in 2012. We salute our brave Vietnam veterans who, in service to our Nation and in defense of liberty, fought gallantly against the spread of communism and defended the freedom of the Vietnamese people.

Fifty years ago, in 1967, nearly 500,000 American troops served in South Vietnam, along with approximately 850,000 troops of our allies. Today, during Veterans and Military Families Month and as the Federal Government observes Veterans Day, I am in Vietnam alongside business and political leaders to advance the interests of America, and to promote peace and stability in this region and around the world. I cherish this opportunity to recall, with humility, the sacrifices our veterans made for our freedom and our Nation's strength.

During this Commemoration of the 50th Anniversary of the Vietnam War, we embrace our responsibility to help our Vietnam veterans and their families heal from the heavy toll of war. We remember the more than 58,000 whose names are memorialized on a black granite wall in our Nation's capital for having borne the heaviest cost of war. We also pay tribute to the brave patriots who suffered as prisoners of war, and we stand steadfast in our commitment not to rest until we account for the 1,253 heroes who have not yet returned to American soil.

To ensure the sacrifices of the 9 million heroes who served during this difficult chapter of our country's history are remembered for generations to come, I signed into law the Vietnam War Veterans Recognition Act of 2017, designating March 29 of each year as National Vietnam War Veterans Day. Throughout this Commemoration of the 50th Anniversary of the Vietnam War, and every March 29 thereafter, we will honor all those who answered our Nation's call to duty. We vow to never again confuse personal disapproval of war with prejudice against those who honorably wear the uniform of our Armed Forces. With conviction, our Nation pledges our enduring respect, our continuing care, and our everlasting commitment to all Vietnam veterans.

We applaud the thousands of local, State, and national organizations, businesses, and governmental entities that have already partnered with the Federal Government in the Commemoration of the 50th Anniversary of the Vietnam War. Because of their remarkable leadership and dedication, countless Vietnam veterans and their families have been personally and publicly thanked and honored in ceremonies in towns and cities throughout our country. During my Administration, I promise to continue coordinated efforts to recognize all veterans of the Vietnam War for their service and sacrifice, and to provide them with the heartfelt acknowledgement and gratitude that they and their families so richly deserve.

NOW, THEREFORE, I, DONALD J. TRUMP, President of the United States of America, by virtue of the authority vested in me by the Constitution and the laws of the United States, do hereby confirm the commitment of this Nation to the Commemoration of the 50th Anniversary of the Vietnam War, which began on Memorial Day, 2012 and will continue through Veterans Day, 2025. I call upon all Americans to offer each of our Vietnam veterans and their families a thank you on behalf of the Nation, both privately and during public ceremonies and programs across our country.

IN WITNESS WHEREOF, I have hereunto set my hand this tenth day of November, in the year of our Lord two thousand seventeen, and of the Independence of the United States of America the two hundred and forty-second.

[FR Doc. 2017-25164

Filed 11-16-17; 11:15 am]

Billing code 3295-F8-P